DEPARTMENT OF HEALTH AND HUMAN SERVICES

Administration for Children and Families

[Office of Management and Budget #: 0970-0599]

Proposed Information Collection Activity; Office of Refugee Resettlement Services for Survivors of Torture Program Data Points and Performance Progress Report

AGENCY: Office of Refugee Resettlement, Administration for Children and Families, U.S. Department of Health and Human Services.

ACTION: Request for public comments.

SUMMARY: The Administration for Children and Families' (ACF) Office of Refugee Resettlement (ORR) intends to continue collecting demographic, programmatic, and outcome data on Services for Survivors of Torture (SOT) grant recipients and the clients they serve. ORR collects information from the grantee cohort under the Survivors of Torture Program Data Points (PDP) and Program Performance Progress Report (PPR) (Office of Management and Budget (OMB) #: 0970-0599; Expiration date: February 28, 2026) to learn more about the populations served; the types and effectiveness of services provided; methods, challenges, and facilitators of implementing services; and grant recipients' progress towards programmatic goals. Revisions are proposed as described in the discussion section that follows.

DATES: Comments due February 17, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: ORR proposes to continue to use the PDP Form and PPR, with revisions, to collect data on the Services for SOT grant recipients and their clients. The Recipients will continue to report their PDP through the ORR Refugee Arrivals Data System (RADS), an information technology platform used for enhanced data collection and record keeping.

Grant recipients will provide aggregated data on new and continuing clients annually, including demographic information, characteristics related to experiences of torture, services received, length of service, and wellbeing across six outcome domains.

Grant recipients will also provide information about community attendance at trainings and pro-bono services donated to the program. In the PPR, grant recipients will provide program narrative and program metric information on grant-funded activities and progress towards grant goals semi-annually.

Information collected will be used in aggregate by ORR to provide reports to stakeholders, including a required Report to Congress, and responses to funding requests.

ORR has made changes to the data collection, which include removing a total of twelve subcategories for two program indicators and reducing the frequency of reporting percentage-based outcomes in the program metrics. ORR has also added one subcategory in one program indicator. Overall, these changes have reduced the estimated reporting burden by 30 percent.

Respondents: Services for SOT grant programs (this may include non-profit social service, health, and higher education organizations, states, municipalities, and for-profit organizations).

Annual Burden Estimates

Estimated annual burden has been updated to reflect a reduction in estimated time per response from an average of 6 hours per response to an average of 4 hours per response.

Instrument | Total number of respondents | Total number of responses per respondent | Average burden hours per response | Annual burden hours
PDP Form | 35 | 1 | 4.2 | 147
PPRs—Parts A and B | 35 | 2 | 4.2 | 294
Total Annual Burden |  |  |  | 441

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 5(a) of the “Torture Victims Relief Act of 1998,” Public Law 105-320 (22 U.S.C. 2152 note) Assistance for Treatment of Torture Victims.

Mary C. Jones,
ACF/OPRE Certifying Officer.

[FR Doc. 2025-23145 Filed 12-17-25; 8:45 am]

BILLING CODE 4184-46-P